DEPARTMENT OF TRANSPORTATION

Federal Aviation Administration

14 CFR Part 93

[Docket No. FAA-2026-0199; Amdt. No. 93-105]

RIN 2120-AM14

Flight Restrictions in the Vicinity of Ronald Reagan Washington National Airport (DCA)

AGENCY: Federal Aviation Administration (FAA), Department of Transportation (DOT).

ACTION: Interim final rule with request for comments.

SUMMARY: FAA is revising its regulations to implement certain flight restrictions in the airspace over the Potomac River near Ronald Reagan Washington National Airport (DCA) permanently. These revisions are necessary to mitigate the potential for midair collisions resulting from insufficient separation between fixed-wing aircraft operating to or from DCA and helicopters or powered-lift operating in the vertical-lift flight mode near DCA. The revisions will also fully implement a National Transportation Safety Board safety recommendation. The flight restrictions will prohibit helicopters and powered-lift operating in the vertical-lift flight mode from operating in a designated area near DCA unless these aircraft are conducting an essential operation.

DATES: This interim final rule is effective January 23, 2026.

Submit comments on or before February 23, 2026.

ADDRESSES: Send comments identified by docket number FAA-2026-0199 using any of the following methods:

• Federal eRulemaking Portal: Go to www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC 20590 between 9 a.m. and 5 p.m., Monday through Friday, except Federal holidays.

• Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC 20590 between 9 a.m. and 5 p.m., Monday through Friday, except Federal holidays.

FOR FURTHER INFORMATION CONTACT: Brian Konie, Rules and Regulations Group, Policy Directorate, Air Traffic Organization, Federal Aviation Administration, 600 Independence Avenue SW, Washington, DC 20597; telephone: (202) 267-8783.

SUPPLEMENTARY INFORMATION:

I. Executive Summary

FAA is revising its regulations to add subpart X to 14 CFR part 93 that will permanently implement certain flight restrictions in the airspace over the Potomac River near Ronald Reagan Washington National Airport (DCA). These revisions are necessary to mitigate the potential for midair collisions resulting from insufficient separation between fixed-wing aircraft operating to or from DCA and helicopters or powered-lift operating in the vertical-lift flight mode near DCA. The revisions will also fully implement a National Transportation Safety Board (NTSB) safety recommendation.

Specifically, helicopters or powered-lift operating in the vertical-lift flight mode may only conduct essential operations in the area between the Memorial Bridge, Hains Point, and the Wilson Bridge as defined in new § 93.373. These requirements are effective immediately.

When helicopters or powered-lift operating in the vertical-lift flight mode must conduct essential operations in this area designated in § 93.373, air traffic control (ATC) will manage fixed-wing traffic to restrict traffic from entering the special flight rules area. This includes local procedures which restrict the use of Runways 15/33 or 4/22 for arrivals or departures when excepted helicopter/powered-lift aircraft are operating within the area.

For the purposes of this subpart, and as described in § 93.375, FAA recognizes the following operations as essential: lifesaving medical, active law enforcement, active national security, continuity activities for the Federal government, or transportation for the President or Vice President of the United States (U.S.). Routine training, proficiency evaluation flights, and other flights for transportation of personnel that are not involved in an essential operation, as previously described, are not essential operations. In short, essential helicopter operations in this area should be exceedingly rare.

Through this rule, FAA is also amending the authority citation for 14 CFR part 93 to remove the citation to 49 U.S.C. 106(g) to reflect amendments resulting from the FAA Reauthorization Act of 2024.¹

II. Interim Final Rule

FAA is adopting this interim final rule without prior notice and prior public comment to enact measures to mitigate the unacceptable risk of midair collisions near DCA resulting from insufficient separation immediately. U.S. Department of Transportation (DOT) Order 2100.6B, Policies and Procedures for Rulemaking,² provides that issuing substantive rules without completing notice and comment is an exception and not favored. Accordingly, FAA invites interested persons to participate in this rulemaking by submitting written comments, data, or views. The agency also invites comments relating to the economic, environmental, energy, or federalism impacts that might result from this interim final rule. FAA will replace this IFR with a final rule at the earliest opportunity following a review of comments received.

See the “Additional Information” section for information on how to comment on this interim final rule and how FAA will handle comments received. The “Additional Information” section also contains related information about the docket, privacy, and the handling of proprietary or confidential business information. In addition, there is information on obtaining copies of related rulemaking documents.

III. Authority for This Rulemaking and Good Cause

A. Authority for This Rulemaking

FAA's authority to issue rules on aviation safety is found in 49 U.S.C. subtitle I, section 106, which describes the authority of the FAA Administrator. Subtitle VII, Aviation Programs, describes in more detail the scope of FAA's authority.

This rulemaking is promulgated under the authority described in subtitle VII, part A, subpart I, section 40103, Sovereignty and use of airspace, and subpart III, section 44701, General requirements. Under section 40103, FAA is charged with prescribing regulations on: (1) the flight of aircraft, including regulations on safe altitudes; (2) the navigation, protection, and identification of aircraft; (3) the safe and efficient use of the navigable airspace, and (4) preventing collision between aircraft. Under section 44701, FAA is charged with promoting safe flight of civil aircraft in air commerce by prescribing regulations for practices, methods, and procedures the Administrator finds necessary for safety in air commerce and national security.

This interim final rule is within the scope of sections 40103 and 44701 because it mitigates the potential for midair collisions near DCA and addresses an urgent NTSB safety recommendation to ensure safety in air commerce near DCA.

B. Good Cause for Immediate Adoption

Section 553(b)(B) of the Administrative Procedure Act (APA) (5 U.S.C.) authorizes agencies to dispense with notice and comment procedures for rules when the agency for “good cause” finds those procedures are “impracticable, unnecessary, or contrary to the public interest.” Under this section, an agency, upon finding good cause, may issue a final rule without seeking comment prior to the rulemaking. In addition, 5 U.S.C. 553(d) generally requires the publication or service of a substantive rule shall be made not less than 30 days before its effective date, but section 553(d)(3) provides an exception to this general requirement when the agency finds good cause to waive the delay in the effective date.

On January 29, 2025, a helicopter and a fixed-wing aircraft collided near DCA. The collision resulted in the deaths of all 67 passengers and crew aboard both aircraft. In response, FAA issued a temporary flight restriction (TFR) that effectively closed Washington Route 4 between Hains Point and the Wilson Bridge. Subsequently, the NTSB identified several critical safety concerns and made two urgent safety recommendations to prevent future accidents.³ One of these urgent safety recommendations includes the FAA's prohibition of helicopters on Washington Route 4 between Hains Point and the Wilson Bridge when Runways 15 and 33 are being used for departures and arrivals at DCA, respectively, because the separation distances are insufficient. This rule fully and permanently implements the FAA's interim steps and this urgent NTSB safety recommendation because it prohibits non-essential helicopter and powered-lift operating in vertical-lift flight mode traffic on and near the closed portion of Washington Route 4 and extends the prohibition over a broader area, regardless of runway use. The NTSB recommendations are discussed in greater detail in section IV of this preamble. The rule only allows essential operations over the Potomac River near DCA by helicopter and powered-lift operating in the vertical-lift flight mode. When there is an essential operation within the Special Flight Rules Area (SFRA), ATC will manage fixed-wing traffic to restrict the use of Runways 15/33 or 4/22 for arrivals or departures at DCA.⁴

Currently, FAA has imposed TFRs for helicopters in the area over the Potomac River near DCA (See IV. Background); however, these TFRs are meant to address emergency conditions that preclude normal flight operations. FAA issued the current TFR as a temporary measure to mitigate the collision risk near DCA and implement the NTSB safety recommendations. TFRs, by their nature, are not a permanent solution to address the conditions near DCA. In light of the need for a permanent solution to alleviate the risk of midair collisions, FAA finds prior notice and comment are impracticable, as delaying the effectiveness of this rule and allowing the current TFR to lapse could result in a similar accident or incident as occurred on January 29, 2025. However, recognizing that members of the public may wish to provide comments, FAA is accepting comments related to this interim final rule. Further, for these same reasons, FAA finds good cause exists to waive the delay in the effective date and make this rule immediately effective.

Regarding the revision to the authority citation for 14 CFR part 93, this technical amendment simply implements statutory changes that are already effective.⁵ This amendment constitutes “a routine determination, insignificant in nature and impact, and inconsequential to the industry and to the public.” ⁶ This amendment will not impose any additional substantive restrictions or requirements on the persons affected by these regulations. Because the authority citation revision merely makes technical amendments, FAA finds notice and public comment under 5 U.S.C. 553(b) unnecessary. FAA also finds there is good cause to waive the delay in the effective date.

IV. Background

At the time of the January 29, 2025 collision, a variety of aircraft operated within the airspace near DCA, including fixed-wing airplanes, helicopters, and powered-lift. While a variety of aircraft operated in the airspace over the Potomac River near DCA, the number of operations was already limited by the Washington, DC Metropolitan Area Special Flight Rules Area (SFRA).⁷ The Washington, DC Metropolitan Area SFRA levies operating requirements within 30 nautical miles (NM) of the DCA Very High Frequency Omnidirectional Range/Distance Measuring Equipment (VOR/DME) for reasons of national security.⁸ The area of the flight restriction designated in this rule is wholly contained within the Washington, DC Metropolitan Area SFRA and adds additional flight restrictions that limit the types of operations for helicopters and powered-lift operating in the vertical-lift flight mode over the Potomac River near DCA to enhance safety by limiting these operations to only those that are essential.

In addition, DCA had and continues to have three operational runways. Runway 01/19 is DCA's most used runway and is 7,169 feet long. Runway 15/33 has the second-most use and is 5,204 feet long. Runway 04/22 is 5,000 feet long.

Further, as depicted on the Baltimore-Washington Helicopter Route Chart, there were a variety of helicopter routes near DCA at the time of the collision.⁹ Each of the 23 Washington helicopter routes on the chart has specific operating altitudes and communication requirements. As applicable to this interim final rule, the chart displays the routes (or excerpts of specific routes over the Potomac River near DCA) described below and the associated altitudes for each portion of the route. The route descriptions below reflect the routes in place at the time of the collision (published on December 26, 2024). This rule uses the route information in place at the time of the collision for consistency with terminology in the NTSB's recommendation.

Washington Route 1 begins at the American Legion Bridge over the Potomac River, to the Tidal Basin east of Roosevelt Island, over the Washington Channel to the Anacostia River, then northeast over the Anacostia River. The operating altitude for the route north of the Wilson Bridge is at or below 200 feet mean sea level (MSL).

Washington Route 4 began at Fort Washington, south of the Wilson Bridge over the Potomac River, to the Wilson Bridge (where Washington Route 4 crosses west-to-east Route 3), then via the East Bank of the Potomac River near DCA to the Anacostia River, where Washington Route 4 intercepted Washington Route 1. The operating altitude for the route between the Key Bridge and the James Creek Marina (northeast of Hains Point) was at or below 200 feet MSL.

Washington Route 6, near DCA, from east to west, was from the Woods Corner reporting point, to the Bolling reporting point (in the vicinity of Joint Base Anacostia-Bolling), to Abingdon Plantation (directly adjacent to the west of DCA), to direct Glebe Road (near the intersection of Glebe Road and Interstate 395). The operating altitude for the route between the Bolling and Glebe Road reporting points and over DCA was 1,500 feet MSL. All other operating altitudes were at or below 1,400 feet MSL.

On January 29, 2025, a Sikorsky UH-60L, operated by the U.S. Army under the callsign PAT25, was traveling south on Washington Route 4. Simultaneously, a Mitsubishi Heavy Industries (MHI) RJ Aviation (formerly Bombardier) CL-600-2C10 (CRJ700), U.S. aircraft registration N709PS, operated by PSA Airlines as flight 5342, was preparing to land on DCA Runway 33. At about 2048 eastern standard time (EST), PAT25 and PSA Airlines flight 5342 collided in flight approximately 0.5 miles southeast of DCA in Arlington, Virginia, and impacted the Potomac River in southwest Washington, DC The collision occurred at an altitude of approximately 300 feet. All 67 individuals aboard both aircraft were killed in the crash.

Following the collision, FAA issued a TFR, via Notice to Airmen (NOTAM) Flight Data Center (FDC) 5/9030, pursuant to § 91.137(a)(2) to provide a safe environment for the operation of disaster relief aircraft.¹⁰ This TFR prohibited helicopter traffic from operating over the Potomac River near DCA from the surface up to and including 17,999 feet MSL, with exceptions for lifesaving medical, active law enforcement, active air defense, or Presidential transport missions. This effectively closed Washington Route 4 near DCA. As stated in the NOTAM, in the event one of the excepted missions must occur, civilian aircraft would not be allowed in the area until completion of the excepted operation to mitigate the risk of potential conflicts near DCA.

On March 11, 2025, the NTSB announced that it issued an urgent Safety Recommendation Report, entitled Deconflict Airplane and Helicopter Traffic in the Vicinity of Ronald Reagan Washington National Airport, containing two urgent safety recommendations and an Aviation Investigation Preliminary Report.¹¹ ¹² ¹³ In its urgent Safety Recommendation Report, the NTSB urged FAA to take immediate action on two urgent safety recommendations, A-25-001 and A-25-002, concerning the potential for midair collisions between traffic on helicopter Washington Route 4 and airplanes landing on Runway 33 or departing from Runway 15 at DCA.

The NTSB expressed its concerns that “the existing separation distances between helicopter traffic operating on Washington Route 4 and aircraft landing on Runway 33 are insufficient and pose an intolerable risk to aviation safety by increasing the chances of a midair collision.” ¹⁴ In particular, the NTSB's Safety Recommendation Report states that at “an altitude of 200 ft, a helicopter operating over the eastern shoreline of the Potomac River would have about 75 ft of vertical separation from an airplane approaching runway 33, and this distance decreases if the helicopter is operated farther from the shoreline.” ¹⁵ To further illustrate its concern, the NTSB highlighted additional data on separation distances obtained by FAA analysis of relevant data, showing that in a period of a little over three years, there were “85 recorded events that involved a lateral separation less than 1,500 [feet] and vertical separation less than 200 [feet].” ¹⁶

Based on its findings, the NTSB issued two urgent safety recommendations.

• Safety Recommendation A-25-001: Prohibit operations on helicopter Route 4 between Hains Point and the Wilson Bridge when Runways 15 and 33 are being used for departures and arrivals, respectively, at Ronald Reagan Washington National Airport.¹⁷

• Safety Recommendation A-25-002: Designate an alternative helicopter route that can be used to facilitate travel between Hains Point and the Wilson Bridge when that segment of Washington Route 4 is closed.¹⁸

The NTSB went on to explain that when Washington Route 4 operations are prohibited, it restricts “a vital aviation corridor used for law enforcement activity, Coast Guard patrols, and continuity of government operations.” Moreover, the NTSB stated that “[c]ontinued access to the most direct course possible is critical for these operations. In addition, mandating that controllers hold helicopters in place north or south of DCA while airplanes are operating on [R]unway 15/33 has the potential to increase risk by adding to controller workload.” ¹⁹

On March 13, 2025, FAA published changes to Washington Route 4 and Washington Route 6.²⁰ ²¹ ²² The changes formally removed portions of Washington Routes 4 and 6 near arrival and departure traffic of fixed-wing aircraft operating to or from DCA to mitigate the potential for insufficient separation with helicopters or powered-lift operating in the vertical-lift flight mode.

On May 2, 2025, the NTSB closed Safety Recommendation A-25-001, stating it believed FAA's actions to date exceeded the intent of the recommendation.²³ FAA's actions included removing a section of helicopter Washington Route 4 and limiting certain runway use at DCA during specific limited helicopter operations in the vicinity of DCA.²⁴

In addition, since the initial NOTAM, FAA has issued revisions of the flight restriction to refine the lateral boundaries, reduce the vertical dimensions from 17,999 feet MSL to 10,000 feet MSL, and clarify the restrictions imposed as the disaster relief operations near DCA changed. The most recent version of the NOTAM, FDC 5/6468, issued on November 14, 2025 pursuant to § 91.139, contains the same exceptions for lifesaving medical, active law enforcement, active air defense, or Presidential transport missions. The NOTAM continues to define the lateral and vertical dimensions of the area and lists the restrictions imposed.

This interim final rule, issued in alignment with FAA's correspondence to NTSB ²⁵ and the NTSB findings, permanently and fully implements NTSB Safety Recommendation A-25-001 to mitigate the potential for midair collisions due to insufficient separation between traffic on Washington Route 4 and airplanes landing on Runway 33 or departing from Runway 04 or Runway 15 at DCA. FAA is addressing NTSB Safety Recommendation A-25-002 in another effort beyond the scope of this rule.

V. Discussion of the Interim Final Rule

To mitigate the potential for midair collisions near DCA and implement NTSB Safety Recommendation A-25-001, FAA is adding subpart X to part 93 to implement flight restrictions in the airspace over the Potomac River near DCA permanently.

A. Flight Restrictions: Applicability

NTSB Safety Recommendation A-25-001 recommended prohibiting operations on helicopter Washington Route 4 between Hains Point and the Wilson Bridge when Runway 15 and Runway 33 are being used for departures and arrivals, respectively, at DCA. This rule applies to the types of aircraft that operate in the area defined in § 91.373. As stated in § 93.371, this rule applies to helicopters and powered-lift operating in the vertical-lift flight mode. In addition to the 14 CFR 1.1 definition of powered-lift,²⁶ the vertical-lift flight mode for powered-lift is currently defined in 14 CFR 194.103 as a flight mode where a powered lift is “in a configuration that allows vertical takeoff, vertical landing, and low-speed flight” and depends “principally on engine-driven lift devices or engine thrust for lift.”

B. Mixed Traffic Area

Prior to the midair collision on January 29, 2025, a mix of fixed-wing aircraft, helicopter, and powered-lift operations occurred simultaneously near DCA. Due to the midair collision resulting from insufficient separation between mixed operations, FAA determined it needed to address traffic operating on Washington Route 4 as well as traffic over the Potomac River near DCA. As of March 13, 2025, Washington Route 4 only exists south of the Memorial Bridge.²⁷ Similar to the previously issued NOTAMs, this rule establishes a flight restriction in the area between the Memorial Bridge, Hains Point, and the Wilson Bridge (Area).

FAA considers restricting airspace to be an extraordinary remedy to be applied only when truly necessary. FAA must consider other statutory mandates (1) to ensure the safe and efficient use of airspace,²⁸ and (2) to ensure the public right of transit.²⁹ As such, the specified lateral dimensions of the flight restriction only cover the area necessary to mitigate the risk of insufficient separation distances between mixed traffic, where helicopters or powered-lift operating in the vertical-lift flight mode would be laterally and vertically near DCA's runways. FAA defined the Area narrowly to provide adequate airspace for users to conduct non-essential operations near but outside the Area defined in this rule. For example, operators that previously conducted operations in the Area can still use proximal airspace for non-essential operations, which provides training benefits. Because some government agencies must conduct operations near DCA, FAA also consulted with those other government agencies, including the Department of War and other security stakeholders, when developing the lateral dimensions.

The lateral dimensions of the Area align with temporary restrictions issued by FAA, with the exception of the airspace near DCA's Terminal A. The U.S. Coast Guard bases aircraft at DCA near Terminal A and must conduct routine, non-essential operations in the airspace near DCA. These operations occur far enough away from the runways at issue that they do not pose the same risk for insufficient separation distances. This rule excludes that airspace from these restrictions to allow continued U.S. Coast Guard helicopter operations.

This rule also addresses traffic operating from the surface up to and including 1,500 feet MSL. This altitude, while more permissive than FAA-issued temporary restrictions currently in place, aligns with typical operations by helicopters and powered-lift operating in the vertical-lift flight mode near DCA thus it does not pose the same risk for insufficient separation distances.

Section 93.373 provides the horizontal and vertical dimensions of this Area FAA is designating as the Ronald Reagan Washington National Airport Flight Restrictions Area.

C. Flight Restrictions

To permanently address NTSB's Safety Recommendation A-25-001 and address the potential for midair collisions due to insufficient separation near DCA, § 93.375(a) prohibits any person from operating helicopters and powered-lift operating in the vertical-lift flight mode in the Area, unless it is an essential operation. This restricts all use by these aircraft in this Area, regardless of runway use at DCA.

When the operator of a helicopter or powered-lift operating in the vertical-lift flight mode must conduct an essential operation in this Area, ATC will manage fixed-wing traffic to restrict the use of Runway 15 and Runway 33 for departures and arrivals, respectively, and Runway 04 for departures at DCA. In combination, these actions should significantly reduce the risk of midair collisions caused by the insufficient separation of mixed traffic operations in the Area.

D. Essential, Non-Fixed-Wing Operations Near DCA

Due to the proximity of DCA to the U.S. Capitol and other government facilities and the continued need to provide emergency services in the Area, prohibiting all helicopters or powered-lift operating in the vertical-lift flight mode in the defined Area is not feasible. As the NTSB stated, this Area is “a vital aviation corridor used for law enforcement activity, Coast Guard patrols, and continuity of government operations.” Moreover, the NTSB stated “[c]ontinued access to the most direct course possible is critical for these operations.” As such, some essential operations must occur, and paragraph (b) of § 93.375 defines what is an essential operation.

FAA recognizes the following operations as essential: lifesaving medical, active law enforcement involving responses to ongoing criminal activity, active national security directly involving national defense or counterintelligence, continuity activities for the Federal government, or transportation of the President or Vice President of the United States. For purposes of this rule, the essential operations are narrow in scope, intended to enhance safety, and provide for critical services that must occur in this Area or require transit through this Area.

Lifesaving medical operations would generally include those aircraft directly involved in saving lives. Examples would be aviation operations responding to a life-threatening emergency or involving an air ambulance. Active law enforcement operations would include those involving aviation responses to ongoing crime or criminal activity. Active national security operations include those aviation operations that directly involve national defense or counterintelligence, such as countering terrorism or combating espionage.³⁰ Operations conducted for continuity activities for the Federal government are those aviation activities conducted to ensure the continued operation of essential governmental functions under circumstances including all-hazard emergencies. Examples of all-hazard emergencies include natural disasters, mass-casualty events, and terrorist attacks. These activities may require the movement of certain government officials by aircraft to ensure those officials are able to continue the execution of their national essential functions.³¹ Operations to transport the President or Vice President of the United States of America include the aircraft or vehicle involved in transport and necessary supporting aircraft or vehicles. These operations are essential to ensure the integrity of government operations and the security of the President or Vice President.

Though this rule provides for essential operations, the rule does not change existing ATC procedures or operational priority as provided for in FAA orders and directives. FAA notes 14 CFR 93.1 provides ATC the ability to authorize operations in this area. FAA expects ATC could authorize operations not listed in paragraph (b). This could be done in rare and unforeseen circumstances, such as aviation responses to significant emergencies, or disaster recovery operations in response to significant accidents or natural disasters.

Under paragraph (c), essential operations explicitly do not include proficiency evaluation flights, transportation of personnel not directly involved in an essential operation (e.g., VIP transportation operations other than the President or Vice President), or routine training operations. These types of operations do not fit within the narrow scope of essential operations provided for in this rule considering this rule's purpose of mitigating the risk for midair collisions near DCA. These operations are not critical operations that necessitate the most direct course.

E. FAA's 2024 Reauthorization Act Amendments to Authority Citation

The FAA Reauthorization Act of 2024 amended 49 U.S.C. 106 by removing the language previously within subsection (g), modifying it, and moving the modified text to subsection (f). See Public Law 118-63, Sec. 204(b). In addition, the Act designated subsection (g) as reserved. As a result, Section 106(g) no longer provides authority for part 93. To implement this statutory change, this rule revises the authority citation for part 93 to remove the reference to 49 U.S.C. 106(g). No further changes are needed to the authority citation as it already includes a reference to 106(f).

VI. Regulatory Notices and Analyses

A. Regulatory Impact Analysis

Executive Order (E.O.) 12866 (“Regulatory Planning and Review”) and E.O. 13563 (“Improving Regulation and Regulatory Review”) require agencies to regulate in the “most cost-effective manner,” to make a “reasoned determination the benefits of the intended regulation justify its costs,” and to develop regulations that “impose the least burden on society.” The Office of Management and Budget has determined this rule is a significant regulatory action as defined in section 3(f) of E.O. 12866.

E.O. 14192 (“Unleashing Prosperity through Deregulation”), issued January 31, 2025, instructs agencies to “alleviate unnecessary regulatory burdens.” This rule is exempt from E.O. 14192's requirements because it addresses a critical safety matter.

The rule will mitigate the risk of midair collisions resulting from insufficient separation distances between fixed-wing aircraft and helicopters and powered-lift aircraft operating in the vertical-lift flight mode near DCA by implementing restrictions in the airspace over the Potomac River near DCA. Helicopters or powered-lift operating in the vertical-lift flight mode may only conduct essential operations. When helicopters or powered-lift operating in the vertical-lift flight mode must conduct essential operations in this Area, ATC will manage fixed-wing traffic to restrict the simultaneous use of Runway 15 and Runway 33 for departures and arrivals, respectively, or Runway 04 for departures at DCA.

Prior to the NOTAM, existing operating restrictions at DCA already limited the types of operations near the airport, including in the Area designated in § 93.373. This rule would continue to allow fixed-wing traffic to operate in the Area while limiting operations of helicopters or powered-lift operating in the vertical-lift flight mode if those aircraft must conduct essential operations. FAA defined the Area narrowly to provide adequate airspace for users to conduct non-essential operations near but outside of the Area defined in § 93.373.

Therefore, FAA expects that the flight restrictions in this interim final rule are unlikely to result in additional costs to operators that are more than de minimis. Regardless, FAA expects the benefits of this action to exceed the costs because it will mitigate the risk of fatalities and injuries from a collision between fixed-wing aircraft and helicopters or powered-lift operating near DCA.

B. Regulatory Flexibility Act

The Regulatory Flexibility Act (RFA), in 5 U.S.C. 603, requires an agency to prepare an initial regulatory flexibility analysis describing impacts on small entities whenever 5 U.S.C. 553 or any other law requires an agency to publish a general notice of proposed rulemaking for any proposed rule. Similarly, 5 U.S.C. 604 requires an agency to prepare a final regulatory flexibility analysis when an agency issues a final rule under 5 U.S.C. 553 after that section or any other law requires publication of a general notice of proposed rulemaking. FAA concludes good cause exists to forgo notice and comment and to not delay the effective date for this rule. As 5 U.S.C. 553 does not require notice and comment in this situation, 5 U.S.C. 603 and 604 similarly do not require regulatory flexibility analyses.

C. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, they be the basis for U.S. standards.

FAA has assessed the potential effect of this rule and determined it ensures the safety of the American public and does not exclude imports that meet this objective. As a result, FAA does not consider this rule as creating an unnecessary obstacle to foreign commerce.

D. Unfunded Mandates Assessment

The Unfunded Mandates Reform Act of 1995 (2 U.S.C. 1531-1538) governs the issuance of Federal regulations that require unfunded mandates. An unfunded mandate is a regulation that requires a State, local, or Tribal government or the private sector to incur direct costs without the Federal government having first provided the funds to pay those costs. FAA determined the rule will not result in the expenditure of $187,000,000 or more ($100,000,000 adjusted for inflation using the most current Implicit Price Deflator for the Gross Domestic Product) by State, local, or Tribal governments, in the aggregate, or the private sector, in any one year.

E. Paperwork Reduction Act

The Paperwork Reduction Act of 1995 (44 U.S.C. 3507(d)) requires FAA to consider the impact of paperwork and other information collection burdens imposed on the public. FAA has determined there is no new requirement for information collection associated with this interim final rule.

F. International Compatibility

In keeping with U.S. obligations under the Convention on International Civil Aviation, it is FAA policy to conform to International Civil Aviation Organization (ICAO) Standards and Recommended Practices to the maximum extent practicable. FAA has determined there are no ICAO Standards and Recommended Practices that correspond to these regulations.

G. Environmental Analysis

FAA has analyzed the environmental impacts of this rule pursuant to the National Environmental Policy Act of 1969 (NEPA) (42 U.S.C. 4321 et seq.). FAA has determined this action of revising its regulations to implement certain restrictions to prohibit mixed traffic operations in the airspace over the Potomac River permanently when Runways 15 and 33 are being used for departures and arrivals at DCA qualifies for categorical exclusion in accordance with NEPA and FAA Order 1050.1G, FAA National Environmental Policy Act Implementing Procedures, paragraph B-2.6 (f)—Regulations, standards, and exemptions (excluding those that if implemented may cause a significant impact on the human environment). Categorical exclusions are categories of actions that the agency has determined normally do not significantly affect the quality of the human environment and therefore do not require either an environmental assessment (EA) or environmental impact statement (EIS). See DOT Order 5610.1D § 9. In analyzing the applicability of a categorical exclusion, the agency must also consider whether extraordinary circumstances are present that would warrant the preparation of an EA or EIS. Id. § 9(b). In accordance with FAA's NEPA implementation policy and procedures regarding extraordinary circumstances, FAA has reviewed this action for factors and circumstances in which a normally categorically excluded action may have a significant environmental impact requiring further analysis. Accordingly, FAA has determined no extraordinary circumstances exist that warrant preparation of an environmental assessment or environmental impact statement.

VII. Executive Order Determinations

A. Executive Order 13132, Federalism

FAA has analyzed this interim final rule under the principles and criteria of E.O. 13132, Federalism. FAA has determined this action will not have a substantial direct effect on the States, or the relationship between the Federal Government and the States, or on the distribution of power and responsibilities among the various levels of government, and, therefore, will not have federalism implications.

B. Executive Order 13175, Consultation and Coordination With Indian Tribal Governments

Consistent with E.O. 13175, Consultation and Coordination with Indian Tribal Governments,³² and FAA Order 1210.20, American Indian and Alaska Native Tribal Consultation Policy and Procedures,³³ FAA ensures Federally Recognized Tribes (Tribes) are given the opportunity to provide meaningful and timely input regarding proposed Federal actions that have the potential to have substantial direct effects on one or more Indian Tribes, on the relationship between the Federal Government and Indian Tribes, or on the distribution of power and responsibilities between the Federal Government and Indian Tribes; or to affect uniquely or significantly their respective Tribes. At this point, FAA has not identified any unique or significant effects, environmental or otherwise, on Tribes resulting from this interim final rule.

C. Executive Order 13211, Regulations That Significantly Affect Energy Supply, Distribution, or Use

FAA analyzed this interim final rule under E.O. 13211, Actions Concerning Regulations that Significantly Affect Energy Supply, Distribution, or Use. FAA has determined it is not a “significant energy action” under E.O. 13211 and is not likely to have a significant adverse effect on the supply, distribution, or use of energy.

D. Executive Order 13609, Promoting International Regulatory Cooperation

E.O. 13609, Promoting International Regulatory Cooperation, promotes international regulatory cooperation to meet shared challenges involving health, safety, labor, security, environmental, and other issues and to reduce, eliminate, or prevent unnecessary differences in regulatory requirements. FAA has analyzed this action under the policies and agency responsibilities of E.O. 13609 and has determined this action will have no effect on international regulatory cooperation.

VIII. Additional Information

A. Comments Invited

FAA invites interested persons to participate in this rulemaking by submitting written comments, data, or views. FAA also invites comments relating to the economic, environmental, energy, or federalism impacts that might result from adopting this interim final rule. The most helpful comments reference a specific portion of the interim final rule, explain the reason for any recommended change, and include supporting data. To ensure the docket does not contain duplicate comments, commenters should submit only one time if comments are filed electronically, or commenters should send only one copy of written comments if comments are filed in writing.

FAA will file in the docket all comments it receives, as well as a report summarizing each substantive public contact with FAA personnel concerning this interim final rule. Before finalizing this interim final rule, FAA will consider all comments it receives on or before the closing date for comments. FAA will consider comments filed after the comment period has closed if it is possible to do so without incurring expense or delay. FAA may change this interim final rule in light of the comments received.

Privacy: In accordance with 5 U.S.C. 553(c), FAA solicits comments from the public to inform its rulemaking process better. FAA posts these comments, without edit, including any personal information the commenter provides, to www.regulations.gov, as described in the system of records notice (DOT/ALL-14 FDMS), which can be reviewed at www.dot.gov/privacy.

B. Confidential Business Information

Confidential Business Information (CBI) is commercial or financial information that is both customarily and actually treated as private by its owner. Under the Freedom of Information Act (FOIA) (5 U.S.C. 552), CBI is exempt from public disclosure. If your comments responsive to this interim final rule contain commercial or financial information that is customarily treated as private, that you actually treat as private, and is relevant or responsive to this interim final rule, it is important you clearly designate the submitted comments as CBI. Please mark each page of your submission containing CBI as “PROPIN.” FAA will treat such marked submissions as confidential under the FOIA, and they will not be placed in the public docket of this interim final rule. Submissions containing CBI should be sent to the person in the FOR FURTHER INFORMATION CONTACT section of this document. Any commentary FAA receives that is not specifically designated as CBI will be placed in the public docket for this rulemaking.

C. Electronic Access and Filing

A copy of this interim final rule, all comments received, any final rule, and all background material may be viewed online at www.regulations.gov using the docket number listed above. Electronic retrieval help and guidelines are available on the website. It is available 24 hours each day, 365 days each year. An electronic copy of this document may also be downloaded from the Office of the Federal Register's website at www.federalregister.gov and the Government Publishing Office's website at www.govinfo.gov. A copy may also be found at FAA's Regulations and Policies website at www.faa.gov/regulations_policies.

Copies may also be obtained by sending a request to the Federal Aviation Administration, Office of Rulemaking, ARM-1, 800 Independence Avenue SW, Washington, DC 20591, or by calling (202) 267-9677. Commenters must identify the docket or amendment number of this rulemaking.

All documents FAA considered in developing this interim final rule, including economic analyses and technical reports, may be accessed in the electronic docket for this rulemaking.

D. Small Business Regulatory Enforcement Fairness Act

The Small Business Regulatory Enforcement Fairness Act (SBREFA) of 1996 requires FAA to comply with small entity requests for information or advice about compliance with statutes and regulations within its jurisdiction. A small entity with questions regarding this document may contact its local FAA official or the person listed under the FOR FURTHER INFORMATION CONTACT heading at the beginning of the preamble. To find out more about SBREFA on the internet, visit www.faa.gov/regulations_policies/rulemaking/sbre_act/.

Endnotes

¹ Public Law 118-63 (May 16, 2024).

² https://www.transportation.gov/regulations/dot-order-21006b-rulemaking-and-guidance-procedures.

³ Aviation Investigation Report AIR-25-01 “Deconflict Airplane and Helicopter Traffic in the Vicinity of Ronald Reagan Washington National Airport,” March 7, 2025.

⁴ On May 2, 2025, the NTSB agreed that FAA's elimination of “all helicopter operations on this previously used segment of Route 4, regardless of runway use at DCA” and the prohibition of “the use of Runways 15/33 and Runways 4/22 during specific limited helicopter operations” exceed the extent of urgent NTSB Safety Recommendation A-25-001. https://www.ntsb.gov/safety/safety-recs/Pages/Status-Explanation.aspx. This rule makes permanent the restriction of helicopter and powered-lift operating in the vertical-lift flight mode in the designated area, to include the referenced section of Route 4. See https://data.ntsb.gov/carol-main-public/sr-details/A-25-001.

⁵ See Public Law 118-63, Sec. 204(b).

⁶ Mack Trucks, Inc. v. EPA, 682 F.3d 87, 94 (D.C. Cir. 2012) (quoting Util. Solid Waste Activities Grp. v. EPA, 236 F.3d 749, 755 (D.C. Cir. 2001)); see also Attorney General's Manual on the Administrative Procedure Act (1947), at 31; U.S. Department of Transportation (DOT) Order 2100.6B, paragraph 11.j(1)(b) (saying proposed rules are not required for “[r]ules for which notice and comment is unnecessary to inform the rulemaking, such as rules correcting de minimis technical or clerical errors or rules addressing other minor and insubstantial matters, provided the reasons to forgo public comment are explained in the preamble to the final rule”).

⁷ 14 CFR Part 93, subpart V.

⁸ Id.

⁹ A copy of the route map has been placed in the docket for this rulemaking. See https://www.faa.gov/air_traffic/flight_info/aeronav/digital_products/vfr/.

¹⁰ The docket for this rule has a copy of all referenced NOTAMs.

¹¹ NTSB Makes Urgent Recommendations on Helicopter Traffic Near Reagan National Airport, https://www.ntsb.gov/news/press-releases/Pages/NR20250311.aspx.

¹² Deconflict Airplane and Helicopter Traffic in the Vicinity of Ronald Reagan Washington National Airport, https://www.ntsb.gov/investigations/AccidentReports/Reports/AIR2501.pdf.

¹³ Aviation Investigation Preliminary Report, https://www.ntsb.gov/investigations/Documents/DCA25MA108%20Prelim.pdf.

¹⁴ https://www.ntsb.gov/investigations/AccidentReports/Reports/AIR2501.pdf. at 7.

¹⁵ Id. at 6.

¹⁶ “A review of commercial operations (instrument flight rules departures or arrivals) at DCA between October 2021 and December 2024 indicated a total of 944,179 operations. During that time, there were 15,214 occurrences between commercial airplanes and helicopters in which there was a lateral separation distance of less than 1 nm and vertical separation of less than 400 ft. There were 85 recorded events involved a lateral separation less than 1,500 ft and vertical separation less than 200 ft.” Aviation Investigation Preliminary Report (https://www.ntsb.gov/investigations/Documents/DCA25MA108%20Prelim.pdf) at page 18.

¹⁷ https://data.ntsb.gov/carol-main-public/sr-details/A-25-001.

¹⁸ https://data.ntsb.gov/carol-main-public/sr-details/A-25-002.

¹⁹ https://www.ntsb.gov/investigations/AccidentReports/Reports/AIR2501.pdf at 8.

²⁰ Helicopter route charts are available via a publicly available website at https://www.faa.gov/air_traffic/flight_info/aeronav/digital_products/vfr/.

²¹ Current Washington Route 4 no longer exists north of the Wilson Bridge and current Washington Route 6 no longer exists west of the Potomac River.

²² https://www.faa.gov/air_traffic/flight_info/aeronav/safety_alerts/media/VIS_25-02_CN_DCA_Helicopter_Route_Chart_Revisions.pdf.

²³ data.ntsb.gov/carol-main-public/sr-details/A-25-001.

²⁴ FAA's March 26, 2025 correspondence available at https://data.ntsb.gov/carol-main-public/sr-details/A-25-001.

²⁵ Id.

²⁶ 14 CFR 1.1 defines powered-lift as “a heavier-than-air aircraft capable of vertical takeoff, vertical landing, and low speed flight that depends principally on engine-driven lift devices or engine thrust for lift during these flight regimes and on nonrotating airfoil(s) for lift during horizontal flight.”

²⁷ Helicopter route charts are available via a publicly available website at https://www.faa.gov/air_traffic/flight_info/aeronav/digital_products/vfr/.

²⁸ 49 U.S.C. 40103(b).

²⁹ 49 U.S.C. 40103(a)

³⁰ Refer to: 9-90.010 of the Justice Manual at https://www.justice.gov/jm/jm-9-90000-national-security.

³¹ Refer to Federal Continuity Directive 1, available at https://www.fema.gov/pdf/about/org/ncp/fcd1.pdf.

³² 65 FR 67249 (Nov. 6, 2000).

³³ FAA Order No. 1210.20 (Jan. 28, 2004), available at www.faa.gov/documentLibrary/media/1210.pdf.

List of Subjects in 14 CFR Part 93

Air traffic control, Airports, Airspace, Navigation (air).

The Amendment

For the reasons discussed in the preamble, the Federal Aviation Administration amends chapter I of title 14, Code of Federal Regulations, as follows:

PART 93—SPECIAL AIR TRAFFIC RULES

1. The authority citation for part 93 is revised to read as follows:

Authority: 49 U.S.C. 106(f), 40103, 40106, 40109, 40113, 44502, 44514, 44701, 44715, 44719, 46301.

2. Add subpart X to part 93 to read as follows:

Subpart X—Flight Restrictions in the Vicinity of Ronald Reagan Washington National Airport

Sec.
93.371 Applicability.
93.373 Description of area.
93.375 General operating procedures.

§ 93.371 Applicability.

This subpart prescribes rules applicable to helicopters or powered-lift operating in the vertical-lift flight mode operating in the Ronald Reagan Washington National Airport Flight Restrictions Area described in § 93.373.

§ 93.373 Description of area.

The Ronald Reagan Washington National Airport Flight Restrictions Area is designated as that airspace extending upward from the surface to and including 1,500 feet MSL over the Potomac River near Ronald Reagan Washington National Airport, Arlington, VA beginning at 38°53′04″ N, 77°03′19″ W; to 38°52′48″ N, 77°02′48″ W; to 38°52′44″ N, 77°01′55″ W; to 38°52′34″ N, 77°01′42″ W; to 38°52′23″ N, 77°01′33″ W; to 38°51′54″ N, 77°01′24″ W; to 38°50′43″ N, 77°01′16″ W; to 38°50′07″ N, 77°01′27″ W; to 38°49′14″ N, 77°01′36″ W; to 38°48′37″ N, 77°01′36″ W; to 38°47′37″ N, 77°01′23″ W; to 38°47′37″ N, 77°02′48″ W; to 38°50′17″ N, 77°02′42″ W; to 38°50′30″ N, 77°02′44″ W; to 38°50′49″ N, 77°02′34″ W; to 38°50′59″ N, 77°02′33″ W; to 38°51′07″ N, 77°02′51″ W; to 38°52′07″ N, 77°03′02″ W; to 38°52′35″ N, 77°03′07″ W; to the point of beginning.

§ 93.375 General operating procedures.

(a) No person may operate a helicopter or powered-lift operating in the vertical-lift flight mode in the Ronald Reagan Washington National Airport Flight Restrictions Area unless the person is conducting an essential operation as provided in paragraph (b) of this section.

(b) Essential operations are operations conducted for the following purposes:

(1) Lifesaving medical;

(2) Active law enforcement involving responses to ongoing criminal activity;

(3) Active national security directly involving national defense or counterintelligence;

(4) Continuity activities for the Federal government to ensure the continued operation of essential governmental functions under a broad range of circumstances, including all-hazard emergencies; or

(5) Transportation of the President or Vice President of the United States.

(c) Proficiency evaluation flights, other transportation of personnel not directly involved in an essential operation, and routine training operations are not essential operations as provided for in paragraph (b) of this section.

Issued under authority provided by 49 U.S.C. 106(f), 40103, and 44701(a) in Washington, DC.
Bryan Bedford,
Administrator.

[FR Doc. 2026-01226 Filed 1-22-26; 8:45 am]

BILLING CODE 4910-13-P